DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains in the possession of the American Museum of Natural History, New York, NY. The human remains were removed from the Hopi Indian Reservation, Navajo County, AZ.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by American Museum of Natural History professional staff in consultation with representatives of the Hopi Tribe of Arizona.

In 1900, human remains representing a minimum of three individuals were collected by Dr. Ales Hrdlicka from the base of Second Mesa, Hopi Indian Reservation, Navajo County, AZ. Dr. Hrdlicka gifted the human remains to the American Museum of Natural History that same year. The human remains were cataloged as Moki, a dated term for Hopi. The original burial site is located on the Hopi Indian Reservation. No known individuals were identified. No associated funerary objects are present.

The individuals have been identified as Native American based on mode of burial and a catalog label of Moki, a dated term for the Hopi. The provenience of the remains at the base of Second Mesa suggests an association with one of the (primarily) historic towns situated at the top of Second Mesa. Burial within rocks at the mesa margin is consistent with the post-contact Hopi practice of disposing of epidemic victims.

Although the lands from which the human remains were collected are currently under the jurisdiction of the U.S. Department of the Interior, Bureau of Indian Affairs, the American Museum of Natural History has control of the human remains since their removal from tribal land predates the permit requirements established by the Antiquities Act of 1906.

Officials of the American Museum of Natural History have determined that, pursuant to 25 U.S.C. 3001 (9-10), the human remains described above represent the physical remains of three individuals of Native American ancestry. Officials of the American Museum of Natural History also have determined that, pursuant to 25 U.S.C. 3001 (2), there is a relationship of shared group identity that can be reasonably traced between the Native American human remains and the Hopi Tribe of Arizona.

Representatives of any other Indian tribe that believes itself to be culturally affiliated with the human remains should contact Nell Murphy, Director of Cultural Resources, American Museum of Natural History, Central Park West at 79th Street, New York, NY 10024-5192, telephone (212) 769-5837, before July 1, 2005. Repatriation of the human remains to the Hopi Tribe of Arizona may proceed after that date if no additional claimants come forward.

The American Museum of Natural History is responsible for notifying the Hopi Tribe of Arizona that this notice has been published.

Dated: May 20, 2005
Paul Hoffman,
Deputy Assistant Secretary, Fish and Wildlife and Parks.

[FR Doc. 05-10818 Filed 5-31-05; 8:45 am]

BILLING CODE 4312-50-S